DEPARTMENT OF TRANSPORTATION

Federal Aviation Administration

14 CFR Part 97

[Docket No. 31107; Amdt. No. 3723]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective December 19, 2016. The compliance date for each SIAP, associated Takeoff Minimums, and ODP is specified in the amendatory provisions.

The incorporation by reference of certain publications listed in the regulations is approved by the Director of the Federal Register as of December 19, 2016.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part § 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR part 97:

Air Traffic Control, Airports, Incorporation by reference, Navigation (Air).

Issued in Washington, DC, on November 18, 2016.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 5 January 2017

Ambler, AK, Ambler, NDB RWY 36, Amdt 2B, CANCELED

Ambler, AK, Ambler, RNAV (GPS) RWY 1, Amdt 1

Ambler, AK, Ambler, Takeoff Minimums and Obstacle DP, Amdt 1

Deering, AK, Deering, RNAV (GPS) RWY 3, Amdt 1

Deering, AK, Deering, RNAV (GPS) RWY 12, Amdt 1

Deering, AK, Deering, RNAV (GPS) RWY 21, Amdt 1

Deering, AK, Deering, RNAV (GPS) RWY 30, Amdt 1

Deering, AK, Deering, Takeoff Minimums and Obstacle DP, Amdt 2

Fort Yukon, AK, Fort Yukon, RNAV (GPS) RWY 4, Amdt 2

Fort Yukon, AK, Fort Yukon, RNAV (GPS) RWY 22, Amdt 2

Nulato, AK, Nulato, RNAV (GPS) RWY 3, Amdt 1

Nulato, AK, Nulato, RNAV (GPS) RWY 21, Amdt 1

Nulato, AK, Nulato, Takeoff Minimums and Obstacle DP, Amdt 1

Fayetteville/Springdale/Rogers, AR, Northwest Arkansas Rgnl, Takeoff Minimums and Obstacle DP, Amdt 4

Denver, CO, Denver Intl, ILS OR LOC RWY 7, Amdt 3B

Tampa, FL, Tampa Intl, ILS OR LOC RWY 1L, ILS RWY 1L (SA CAT I), ILS RWY 1L (CAT II), ILS RWY 1L (CAT III), Amdt 18

Tampa, FL, Tampa Intl, ILS OR LOC RWY 19R, Amdt 6

West Palm Beach, FL, Palm Beach Intl, ILS OR LOC RWY 10L, Amdt 27

Alma, GA, Bacon County, RNAV (GPS) RWY 15, Amdt 2A

Alma, GA, Bacon County, RNAV (GPS) RWY 33, Amdt 1A

Dawson, GA, Dawson Muni, RNAV (GPS) RWY 31, Orig-C

Dawson, GA, Dawson Muni, VOR/DME RWY 31, Orig-C

Lafayette, GA, Barwick Lafayette, RNAV (GPS) RWY 2, Amdt 2

Lafayette, GA, Barwick Lafayette, RNAV (GPS) RWY 20, Amdt 2

Lewiston, ID, Lewiston-Nez Pearce County, Takeoff Minimums and Obstacle DP, Amdt 4

Paris, IL, Edgar County, RNAV (GPS) RWY 27, Amdt 1A

Greencastle, IN, Putnam County Rgnl, RNAV (GPS) RWY 18, Amdt 2

Greencastle, IN, Putnam County Rgnl, RNAV (GPS) RWY 36, Amdt 2

Greencastle, IN, Putnam County Rgnl, Takeoff Minimums and Obstacle DP, Amdt 1

Greencastle, IN, Putnam County Rgnl, VOR-A, Amdt 7

Indianapolis, IN, Indianapolis Rgnl, ILS OR LOC RWY 25, Amdt 2E

Indianapolis, IN, Indianapolis Rgnl, RNAV (GPS) RWY 25, Orig-B

Fort Leavenworth, KS, Sherman AAF, NDB RWY 34, Amdt 4A, CANCELED

Topeka, KS, Topeka Rgnl, TACAN RWY 13, Amdt 4A

Topeka, KS, Topeka Rgnl, TACAN RWY 31, Amdt 4A

Reserve, LA, Port of South Louisiana Executive Rgnl, RNAV (GPS) RWY 17, Amdt 1A

Reserve, LA, Port of South Louisiana Executive Rgnl, RNAV (GPS) RWY 35, Amdt 1A

Reserve, LA, Port of South Louisiana Executive Rgnl, Takeoff Minimums and Obstacle DP, Amdt 1A

Reserve, LA, Port of South Louisiana Executive Rgnl, VOR RWY 35, Amdt 1A

Stevensville, MD, Bay Bridge, RNAV (GPS) RWY 11, Amdt 1

Stevensville, MD, Bay Bridge, RNAV (GPS) RWY 29, Amdt 1

Bois Blanc Island, MI, Bois Blanc Island, RNAV (GPS) RWY 10, Amdt 1

Hancock, MI, Houghton County Memorial, ILS OR LOC RWY 31, Amdt 15

Hancock, MI, Houghton County Memorial, RNAV (GPS) RWY 7, Amdt 1B

Albert Lea, MN, Albert Lea Muni, RNAV (GPS) RWY 35, Amdt 1B

Austin, MN, Austin Muni, ILS OR LOC RWY 35, Amdt 1B

Silver City, NM, Grant County, SILVER CITY TWO, Graphic DP

Zanesville, OH, Zanesville Muni, RNAV (GPS) RWY 4, Orig

Zanesville, OH, Zanesville Muni, RNAV (GPS) RWY 22, Orig

Zanesville, OH, Zanesville Muni, VOR RWY 4, Amdt 7

Zanesville, OH, Zanesville Muni, VOR RWY 22, Amdt 4

Oneida, TN, Scott Muni, VOR/DME-A, Amdt 5D

Abilene, TX, Abilene Rgnl, ILS OR LOC RWY 35R, Amdt 7A

Abilene, TX, Abilene Rgnl, LOC RWY 17R, Orig-A

Abilene, TX, Abilene Rgnl, RADAR-1, Amdt 10

Abilene, TX, Abilene Rgnl, RNAV (GPS) RWY 17L, Amdt 1A

Abilene, TX, Abilene Rgnl, RNAV (GPS) RWY 22, Orig-A

Abilene, TX, Abilene Rgnl, RNAV (GPS) RWY 35R, Amdt 1A

Abilene, TX, Abilene Rgnl, Takeoff Minimums and Obstacle DP, Amdt 3

Lago Vista, TX, Lago Vista TX—Rusty Allen, RNAV (GPS) RWY 15, Amdt 1

Lubbock, TX, Lubbock Preston Smith Intl, ILS OR LOC RWY 17R, Amdt 18

Lubbock, TX, Lubbock Preston Smith Intl, ILS OR LOC RWY 26, Amdt 4B

Lubbock, TX, Lubbock Preston Smith Intl, LOC BC RWY 35L, Amdt 19

Lubbock, TX, Lubbock Preston Smith Intl, RNAV (GPS) RWY 8, Amdt 2B

Lubbock, TX, Lubbock Preston Smith Intl, RNAV (GPS) RWY 26, Amdt 2B

Lubbock, TX, Lubbock Preston Smith Intl, RNAV (GPS) Y RWY 17R, Amdt 2A

Lubbock, TX, Lubbock Preston Smith Intl, RNAV (GPS) Y RWY 35L, Amdt 2A

Lubbock, TX, Lubbock Preston Smith Intl, RNAV (RNP) Z RWY 17R, Orig-B

Lubbock, TX, Lubbock Preston Smith Intl, RNAV (RNP) Z RWY 35L, Orig-B

Slaton, TX, Slaton Muni, RNAV (GPS) RWY 18, Orig

Slaton, TX, Slaton Muni, RNAV (GPS) RWY 36, Orig

Slaton, TX, Slaton Muni, Takeoff Minimums and Obstacle Orig

Tyler, TX, Tyler Pounds Rgnl, VOR/DME RWY 22, AMDT 4A, CANCELED

St George, UT, St George Rgnl, LDA RWY 19, Orig-D

St George, UT, St George Rgnl, RNAV (GPS) RWY 19, Orig-D

Suffolk, VA, Suffolk Executive, RNAV (GPS) RWY 22, Amdt 2

Wallops Island, VA, Wallops Flight Facility, RNAV (GPS) RWY 10, Amdt 2

Clarksburg, WV, North Central West Virginia, RNAV (GPS) RWY 3, Amdt 2

Rock Springs, WY, Rock Springs-Sweetwater County, ILS OR LOC RWY 27, Amdt 2

Rock Springs, WY, Rock Springs-Sweetwater County, RNAV (GPS) RWY 27, Amdt 1A

[FR Doc. 2016-30001 Filed 12-16-16; 8:45 am]

BILLING CODE 4910-13-P